DEPARTMENT OF THE TREASURY

Submission for OMB Review; Comment Request

August 21, 2014.

The Department of the Treasury will submit the following information collection requests to the Office of Management and Budget (OMB) for review and clearance in accordance with the Paperwork Reduction Act of 1995, Public Law 104-13, on or after the date of publication of this notice.

DATES: Comments should be received on or before September 25, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission may be obtained by emailing PRA@treasury.gov, calling (202) 622-1295, or viewing the entire information collection request at www.reginfo.gov.

Alcohol and Tobacco Tax and Trade Bureau (TTB)

OMB Number: 1513-0028.

Type of Review: Revision of a currently approved collection.

Title: Application for an Industrial Alcohol User Permit.

Form: TTB F 5150.22.

Abstract: The form TTB F 5150.22 is used to determine the eligibility of the applicant to engage in certain operations involving specially denatured spirits and tax-free alcohol. Among other things, this form identifies the location of the premises and helps to establish whether the premises are in conformity with Federal laws and regulations.

Affected Public: Businesses or other for-profits; Not-for-profit institutions; State, local, or tribal governments.

Estimated Annual Burden Hours: 435.

Brenda Simms,
Treasury PRA Clearance Officer.

[FR Doc. 2014-20267 Filed 8-25-14; 8:45 am]

BILLING CODE 4810-31-P